DEPARTMENT OF DEFENSE

Department of the Army; Corps of Engineers

Intent To Prepare a Joint Environmental Impact Statement/Environmental Impact Report for the Coyote Creek Watershed Management Plan Feasibility Study, Orange and Los Angeles Counties, CA

AGENCY: Department of the Army; U.S. Army Corps of Engineers, DOD.

ACTION: Notice of intent.

SUMMARY: The Coyote Creek Watershed Study will integrate and balance the physical and biological systems within the watershed to enhance aquatic and terrestrial habitat, improve water quality, enhance water resources, increase trail connections, enhance passive recreation and open space, reduce sediment and erosion, and aid in flood protection. Additionally, the Watershed Management Plan will encourage greater cooperation between public agencies and private organizations to leverage limited resources and improve quality of life within the watershed. It will be a guidance document for watershed stakeholders to better manage watershed resources and land use. This Plan will identify and prioritize projects for maintaining, constructing, restoring, and enhancing resources that contribute to a healthy and sustainable watershed. Policy and management recommendations will result from this plan that will connect existing public policy and watershed management principles.

The U.S. Army Corps of Engineers and the County of Orange, California will cooperate in conducting this feasibility study.

DATES: Scoping meetings are scheduled as follows:

1. July 14, 2005, 2-5 p.m., Fullerton City Hall, 303 West Commonwealth, Fullerton, CA 92823.

Additional public scoping meetings will be scheduled approximately every two months during the study. For specific dates, times and locations please contact Eileen Takata, County of Orange, Watershed & Coastal Resources Division, at (714) 834-4786 or E-mail at: eileen.takata@rdmd.ocgov.com.

ADDRESSES: U.S. Army Corps of Engineers, Los Angeles District, CESPL-PD-RL, P.O. Box 532711, Los Angeles, CA 90053-2325.

FOR FURTHER INFORMATION CONTACT: Mr. William O. Butler, at (213) 452-3873 or E-mail at: william.o.butler@usace.army.mil.

SUPPLEMENTARY INFORMATION:

1. Authorization

This study is authorized in response to a House Resolution dated 8 May 1954, which reads as follows: “Resolved by the Committee on Public Works of the House of Representatives, United States, that the Board of Engineers for Rivers and Harbors is hereby requested to review the reports on (a) San Gabriel River and Tributaries, published as House Document No. 838, 76th Congress, 3rd Session; (b) Santa Ana River and Tributaries, published as House Document No. 135, 81st Congress, 1st Session; and (c) the project authorized by the Flood Control Act of 1936 for the protection of the metropolitan area in Orange County, with a view toward determining the advisability of modification of the authorized projects in the interest of flood control and related purposes.”

2. Background

The Coyote Creek Watershed study includes the Coyote Creek Watershed and the Carbon Canyon Watershed. These watersheds are highly urbanized and drain approximately 165 square miles of densely urbanized residential, commercial and industrial development. The Coyote Creek Watershed is drained by its namesake, Coyote Creek, and two principal tributaries, Fullerton Creek and Brea Creek. Coyote Creek is a concrete-lined trapezoidal channel that ultimately drains into the San Gabriel River. The Carbon Canyon Watershed is drained principally by Carbon Creek, Fullerton Creek and Brea Creek. These three creeds vary between rectangular and trapezoidal concrete and riprap channels.

The Corps has a total of three flood control dams in the Coyote Creek and Carbon Creek Watersheds: One at the headwaters of Fullerton Creek (Fullerton Dam); one on Brea Creek (Brea Dam); and the other on Carbon Creek (Carbon Canyon Dam). In addition to the flood control dams, there are six detention basins along Carbon Creek that are used for groundwater recharge and flood control.

3. Proposed Action

Although no specific proposed action has been identified to date, opportunities exist for multipurpose water quality improvements, ecosystem restoration, recreation and education.

4. Alternatives

Although no specific alternative plans have been identified to date, a full array of alternatives to the proposed action will be developed for analyses, including the no action plan.

Alex C. Dornstauder,
Colonel, U.S. Army, District Engineer.

[FR Doc. 05-13778 Filed 7-12-05; 8:45 am]

BILLING CODE 3710-KF-M